OFFICE OF PERSONNEL MANAGEMENT

Proposed Collection: Comment Request for Review of New Information Collection Form: OPM Optional Form XX

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for review of a new information collection document. Optional Form (OF) XX, Certificate of Medical Examination replaces the existing Civil Service Commission Standard Form (SF) 78, Certificate of Medical Examination, which was last revised in October 1969. Replacement is necessary because the SF-78 is no longer accurate. Revisions include making the form optional for agencies, incorporating changes required by 29 CFR 1630.13, which addresses prohibited medical examinations and inquiries, and deleting references to the Federal Personnel Manual and other outdated references.

It will be used to collect medical information about individuals who are incumbents of positions which require physical fitness/agility testing and medical examinations, or who have been selected for such a position contingent upon meeting physical fitness/agility testing and medical examinations as a condition of their employment. This information is needed to ensure fair and consistent treatment of employees and job applicants, to adjudicate requests to pass over preference eligibles, and to adjudicate claims of discrimination under the Americans with Disabilities Act (ADA).

Approximately 45,000 forms are submitted annually. It takes approximately 30 total minutes to complete the form. The annual estimated burden is 22,500 hours.

Comments are particularly invited on:

• Whether this collection of information is necessary for the proper performance of functions of OPM, and whether it will have practical utility;

• Whether our estimate of the public burden of this collection is accurate, and based on valid assumptions and methodology;

• Ways we can enhance the quality, utility and clarity of the information collected; and

• Ways we can minimize the burden of the collection of information on those who are to respond, through use of the appropriate technological collection techniques or other forms of information technology.

For copies of this proposal, contact Mary Beth Smith-Toomey on (202) 606-8358, Fax (202) 418-3251, or e-mail to mbtoomey@opm.gov. Please include a mailing address with your request.

DATES: Comments on this proposal should be received within 60 calendar days from the date of this publication.

ADDRESSES: Send or deliver comments to—J. C. Phillip Spottswood, J.D., M.P.H. by telephone at (202) 606-1389, by TTY at (202) 418-3134; by fax at (202) 606-0864; or by e-mail at phil.spottswood@opm.gov.

Linda M. Springer,
Director, U.S. Office of Personnel Management.

[FR Doc. E6-21647 Filed 12-19-06; 8:45 am]

BILLING CODE 6325-39-P